DEPARTMENT OF HOMELAND SECURITY

U.S. Customs and Border Protection

[Docket No. USCBP-2023-0014]

Commercial Customs Operations Advisory Committee

AGENCY: U.S. Customs and Border Protection (CBP), Department of Homeland Security (DHS).

ACTION: Committee management; notice of federal advisory committee meeting.

SUMMARY: The Commercial Customs Operations Advisory Committee (COAC) will hold its quarterly meeting on Wednesday, June 14, 2023, in Arlington, VA. The meeting will be open for the public to attend in person or via webinar. The in-person capacity is limited to 75 persons for public attendees.

DATES: The COAC will meet on Wednesday, June 14, 2023, from 1:00 p.m. to 5:00 p.m. EDT. Please note that the meeting may close early if the committee has completed its business. Registration to attend and comments must be submitted no later than June 9, 2023.

ADDRESSES: The meeting will be held at Renaissance Arlington Capital View Hotel, 2800 S. Potomac Ave., Arlington, VA 22202 in Salons 5 and 6. For virtual participants, the webinar link and conference number will be posted by 5:00 p.m. EDT on June 13, 2023, at https://www.cbp.gov/trade/stakeholder-engagement/coac/coac-public-meetings. For information or to request special assistance for the meeting, contact Mrs. Latoria Martin, Office of Trade Relations, U.S. Customs and Border Protection, at (202) 344-1440, as soon as possible. Comments may be submitted by one of the following methods:

• Federal eRulemaking Portal: http://www.regulations.gov. Search for Docket Number USCBP-2023-0014. To submit a comment, click the “Comment” button located on the top-left hand side of the docket page.

• Email: tradeevents@cbp.dhs.gov. Include Docket Number USCBP-2023-0014 in the subject line of the message.

Comments must be submitted in writing no later than June 9, 2023, and must be identified by Docket No. USCBP-2023-0014. All submissions received must also include the words “Department of Homeland Security.” All comments received will be posted without change to https://www.cbp.gov/trade/stakeholder-engagement/coac/coac-public-meetings and www.regulations.gov. Therefore, please refrain from including any personal information you do not wish to be posted. You may wish to view the Privacy and Security Notice, which is available via a link on www.regulations.gov.

FOR FURTHER INFORMATION CONTACT: Mrs. Latoria Martin, Office of Trade Relations, U.S. Customs and Border Protection, 1300 Pennsylvania Avenue NW, Room 3.2A, Washington, DC 20229, (202) 344-1440; or Ms. Felicia M. Pullam, Designated Federal Officer, at (202) 344-1440 or via email at tradeevents@cbp.dhs.gov.

SUPPLEMENTARY INFORMATION: Notice of this meeting is given under the authority of the Federal Advisory Committee Act, Title 5 U.S.C., ch. 10. The Commercial Customs Operations Advisory Committee (COAC) provides advice to the Secretary of the Department of Homeland Security, the Secretary of the Department of the Treasury, and the Commissioner of U.S. Customs and Border Protection (CBP) on matters pertaining to the commercial operations of CBP and related functions within the Department of Homeland Security and the Department of the Treasury.

Pre-Registration: Meeting participants may attend either in person or via webinar. All participants must register using one of the methods indicated below:

For members of the public who plan to participate in person, please register online at https://teregistration.cbp.gov/index.asp?w=321 by 5:00 p.m. EDT on June 9, 2023. For members of the public who are pre-registered to attend the meeting in person and later need to cancel, please do so by 5:00 p.m. EDT on June 9, 2023, utilizing the following link: https://teregistration.cbp.gov/cancel.asp?w=321.

For members of the public who plan to participate via webinar, the webinar link and conference number will be posted by 5:00 p.m. EDT on June 13, 2023, at https://www.cbp.gov/trade/stakeholder-engagement/coac/coac-public-meetings.

The COAC is committed to ensuring that all participants have equal access regardless of disability status. If you require a reasonable accommodation due to a disability to fully participate, please contact Mrs. Latoria Martin at (202) 344-1440 as soon as possible.

Please feel free to share this information with other interested members of your organization or association.

To facilitate public participation, we are inviting public comment on the issues the committee will consider prior to the formulation of recommendations as listed in the Agenda section below.

There will be multiple public comment periods held during the meeting on June 14, 2023. Speakers are requested to limit their comments to two minutes or less to facilitate greater participation. Please note that the public comment period for speakers may end before the time indicated on the schedule that is posted on the CBP web page: http://www.cbp.gov/trade/stakeholder-engagement/coac.

Agenda

The COAC will hear from the current subcommittees on the topics listed below:

1. The Next Generation Facilitation Subcommittee will provide updates on its task forces and working groups. It is expected there will be recommendations for the committee's consideration from the 21st Century Customs Framework (21CCF) Task Force and Focus Group, along with a close out report for this task force. The Customs Interagency Industry Working Group (CII) (formerly the One U.S. Government Working Group) will provide an update on the work addressed this past quarter, which included identifying possible Partner Government Agencies for representation on the working group and discussion of the legislative trade proposals stemming from the 21CCF Task Force and Focus Group. An update is expected on the progress of the Automated Commercial Environment (ACE) 2.0 Working Group regarding its review of the CBP ACE 2.0 Concept of Operations processes. The E-Commerce Task Force will provide updates regarding its discussions this past quarter pertaining to duplicate messaging related to security and trade filings. The Passenger Air Operations (PAO) Working Group aims to identify ways to modernize passenger processing rules and regulations, streamline the passenger experience at U.S. ports of entry, and identify challenges that affect operations. While this is a new group, the expectation is that recommendations will be developed and submitted for consideration at future COAC public meetings.

2. The Rapid Response Subcommittee will provide updates from the Broker Modernization Working Group and the United States-Mexico-Canada Agreement (USMCA) Chapter 7 Working Group. The Broker Modernization Working Group meets monthly and continues to focus on the 19 CFR part 111 final rules relating to Modernization of the Customs Broker Regulations, Continuing Education for Licensed Customs Brokers, and Customs Broker Licensing Exams. The USMCA Chapter 7 Working Group meets bi-weekly. Its current focus is to review the Chapter 7 articles of the USMCA and identify gaps in implementation between the United States, Mexico, and Canada.

3. The Secure Trade Lanes Subcommittee will provide updates on its five active working groups: the Export Modernization Working Group, the In-Bond Working Group, the Trade Partnership and Engagement Working Group, the Cross-Border Recognition Working Group, and the Pipeline Working Group. The Export Modernization Working Group has continued its work on the electronic export manifest pilot program and will provide updates on its progress. The In-Bond Working Group may provide recommendations for the committee's consideration and will provide updates on the implementation of previously submitted recommendations. The Trade Partnership and Engagement Working Group has focused its work on previous recommendations to refine the language of possible benefits for Customs Trade Partnership Against Terrorism Trade Compliance partners and may provide additional recommendations for the committee's consideration. The Cross-Border Recognition and Pipeline working groups will provide updates on their work toward developing recommendations for the committee's consideration.

4. The Intelligent Enforcement Subcommittee will provide updates on the work completed and topics discussed in its working groups. The Antidumping/Countervailing Duty (AD/CVD) Working Group will provide updates regarding its work and discussions on importer compliance with AD/CVD requirements. The Intellectual Property Rights Working Group (IPRWG) will provide updates relating to the development of a portal on the CBP Intellectual Property Rights (IPR) web page and to CBP's implementation of the IPRWG's past recommendations concerning the automation of detention and seizure. The Bond Working Group will report on the ongoing discussions and status updates for eBond requirements. The Forced Labor Working Group will provide updates regarding its work and discussions regarding the Uyghur Forced Labor Prevention Act (UFLPA) and anticipates making recommendations for the committee's consideration during the meeting.

Meeting materials will be available on June 5, 2023, at: http://www.cbp.gov/trade/stakeholder-engagement/coac/coac-public-meetings.

Dated: May 18, 2023.
Felicia M. Pullam,
Executive Director, Office of Trade Relations.

[FR Doc. 2023-11022 Filed 5-23-23; 8:45 am]

BILLING CODE 9111-14-P